DEPARTMENT OF COMMERCE

National Institute of Standards and Technology

[Docket Number 0909100442-1012-03]

Effectiveness of Federal Agency Participation in Standardization in Select Technology Sectors for National Science and Technology Council's Sub-Committee on Standardization; Extension of Comment Period

AGENCY: National Institute of Standards and Technology, U.S. Department of Commerce.

ACTION: Request for information, extension of comment period.

SUMMARY: The National Institute of Standards and Technology, on behalf of the National Science and Technology Council's Sub-Committee on Standards, announces the extension of the period for submission of comments responsive to the December 8, 2010 Request for Information on the effectiveness of Federal agencies' participation in the development and implementation of standards and conformity assessment activities and programs. The new comment period deadline is 5 p.m. Eastern Time on March 7, 2011.

DATES: Comments are due by 5 p.m. Eastern Time on March 7, 2011.

ADDRESSES: Comments will be accepted by e-mail only. Comments should be sent to SOS_RFI@nist.gov with the subject line “Standardization feedback for Sub-Committee on Standards.” All comments received will be posted at: http://standards.gov/standards_gov/nstcsubcommitteeonstandards.cfm.

FOR FURTHER INFORMATION CONTACT: Ajit Jillavenkatesa, 100 Bureau Drive, Stop 1060, Gaithersburg, MD 20899-1060, 301-975-8519, ajit.jilla@nist.gov. Media inquiries may be directed to the National Institute of Standards and Technology's Office of Public and Business Affairs at inquiries@nist.gov or 301-975-NIST (6478).

SUPPLEMENTARY INFORMATION: On December 8, 2010, the National Institute of Standards and Technology (NIST), on behalf of the Sub-Committee on Standards under the National Science and Technology Council's Committee of Technology, published in the Federal Register a Request for Information with the objective of informing the development of case studies that will examine the effectiveness of Federal agencies' participation in standards-setting efforts led by the private sector (75 FR 76397) and to solicit public comment on this issue.

The original comment period was scheduled to end on February 7, 2011. As set forth in the Request for Information, the Sub-Committee on Standards is specifically interested in comments that address questions set out in the Request for Information, as they relate to the following technologies:

1. Smart Grid.

2. Health Information Technology.

3. Cyber Security.

4. Emergency Communications Interoperability.

5. Radioactivity Detectors and Radiation Monitors (ANSI N42.3x and N42.4x).

6. Other technologies involving significant Federal agency participation in standards setting.

NIST announces that the period for submission of comments responsive to the December 8, 2010 notice has been extended until 5 p.m. Eastern Time on March 7, 2011 to allow the public additional time to submit input on the above subjects.

Dated: January 12, 2011.
Patrick Gallagher,
Director, National Institute of Standards and Technology, Co-Chair, National Science and Technology Council's Sub-Committee on Technology.

[FR Doc. 2011-1005 Filed 1-20-11; 8:45 am]

BILLING CODE 3510-13-P